DEPARTMENT OF ENERGY

Federal Energy Regulatory Commission

[Docket No. PF01-1-000]

Dominion Transmission, Inc.; Notice of Site Visits

March 21, 2002.

On April 2 through April 4, 2002, and April 16 through April 17, 2002, the staff of the Office of Energy Projects will conduct pre-filing site visits of Dominion Transmission, Inc.'s (Dominion) Greenbrier Pipeline Project in Virginia and North Carolina. The project area will be inspected by automobile and on foot, as appropriate. The staff also plans to attend two Open Houses being held by Dominion on April 2 and 16 at the following locations:

April 2, 2002: Laurel Park High School, 280 Laurel Park Drive, Martinsville, Virginia 276 632-7216.

April 16, 2002: City of Eden Municipal Building, 308 East Stadium Drive, Eden, North Carolina 336 623-2110.

These Open Houses will start at 6 p.m.

All interested parties may attend the site visit. Those planning to attend must provide their own transportation. For additional information about the site visit, contact the Commission's Office of External Affairs at (202) 208-1088.

For information concerning the Open Houses contact Sean R. Sleigh, Certificates Manager for Dominion at (800) 624-3101 or (304) 627-3462.

Linwood A. Watson, Jr.,
Deputy Secretary.

[FR Doc. 02-7309 Filed 3-26-02; 8:45 am]

BILLING CODE 6717-01-P